DEPARTMENT OF THE INTERIOR

National Park Service

[NPS-WASO-OIA-DTS-36352; PPWODIREI0-PIN00IO15.XI0000]

U.S. Nomination to the World Heritage List: Okefenokee National Wildlife Refuge

AGENCY: National Park Service, Interior

ACTION: Notice.

SUMMARY: This notice announces the decision to request that the Okefenokee National Wildlife Refuge in Georgia prepare a draft nomination for inclusion on the United Nations Educational, Scientific and Cultural Organization (UNESCO) World Heritage List. The decision is the result of consultation with the Federal Interagency Panel for World Heritage and the review of public comments submitted in response to an earlier notice. This notice complies with applicable World Heritage Program regulations.

ADDRESSES: To request paper copies of documents discussed in this notice, contact April Brooks, Office of International Affairs, National Park Service, 1849 C St. NW, Room 2415, Washington, DC 20240, (202) 354-1808, or sending electronic mail (Email) to: april_brooks@nps.gov.

FOR FURTHER INFORMATION CONTACT: Jonathan Putnam, 202-354-1809. Information on the U.S. World Heritage program can be found at: https://www.nps.gov/subjects/internationalcooperation/worldheritage.htm.

SUPPLEMENTARY INFORMATION:

Background

The World Heritage List is an international list of cultural and natural properties nominated by the signatories to the World Heritage Convention (1972). The United States was the prime architect of the Convention, an international treaty for preservation of natural and cultural heritage sites of global significance. The World Heritage Committee, composed of representatives of 21 nations periodically elected as the governing body of the World Heritage Convention, makes the final decisions on which nominations to accept on the World Heritage List. There are 1,157 sites in 167 countries. Currently there are 24 World Heritage Sites in the United States. U.S. participation and the roles of the Department of the Interior (Department) and the National Park Service (NPS) are authorized by title IV of the Historic Preservation Act Amendments of 1980 and conducted in accordance with 36 CFR 73—World Heritage Convention. Each State Party to the Convention maintains a Tentative List, periodically updated, of properties that are considered suitable for nomination. Only properties on the Tentative List are eligible to officially prepare nominations that the Department may consider for submission. Okefenokee National Wildlife Refuge has been included on the U.S. Tentative List since 1982. Neither inclusion in the list nor inscription as a World Heritage Site imposes legal restrictions on owners or neighbors of sites, nor does it give the United Nations any management authority or ownership rights in U.S. World Heritage Sites, which continue to be subject only to U.S. law.

The Assistant Secretary for Fish and Wildlife and Parks (Assistant Secretary) initiates the process to nominate U.S. sites to the World Heritage List by publishing a notice in the Federal Register seeking public comment on which properties on the U.S. Tentative List should be nominated next by the United States. The first notice (88 FR 37270, as required by 36 CFR 73.7(c)) was published on June 7, 2023. Following the publication of the first notice, the Assistant Secretary consults the Federal Interagency Panel for World Heritage to review the public comments submitted and make a recommendation. If the Panel recommends that a property be nominated and the recommendation is accepted by the Assistant Secretary, a second notice is issued. This is the second notice as required by 36 CFR 73.7(f) on the proposed nomination. The Panel assists the Department in implementing the Convention by making recommendations on U.S. World Heritage policy, procedures, and nominations. The Panel is chaired by the Assistant Secretary.

Decision To Request the Preparation of a New U.S. World Heritage Nomination

The Department received over 10,300 comments in response to the first notice, many of them regarding Okefenokee National Wildlife Refuge, all of which were expressions of support from the property owners, elected representatives at local, state, and Federal levels, individuals, institutions, and museums. There were no comments against nominating any property, including this site. Additional comments supported the nomination of other sites, in particular sites associated with Civil Rights Movement history.

The Department considered all comments received as well as the advice of the Federal Interagency Panel for World Heritage.

The Department has selected the Okefenokee National Wildlife Refuge as a proposed U.S. nomination to the World Heritage List. With the assistance of the Department, including the completion of appropriate consultation with Native American Tribal governments, the U.S. Fish and Wildlife Service, along with supporting organizations, is encouraged to develop a complete nomination, in accordance with 36 CFR part 73 and the nomination format required by the World Heritage Committee.

Okefenokee National Wildlife Refuge, Georgia, consists of more than 400,000 acres embracing 92% of the Okefenokee Swamp, a large hydrologically intact swamp that is the source of two rivers, one that flows into the Atlantic and the other into the Gulf of Mexico. The Refuge also has extensive and essentially undisturbed peat deposits.

Okefenokee is one of the world's largest naturally driven freshwater ecosystems with a diversity of habitat types, including 21 vegetative types. The Refuge's fauna is also renowned worldwide for its diversity of amphibians and reptiles, mammals, birds, fishes, and invertebrates and perhaps as many as 1,000 species of moths. Unlike many other significant wetland areas, the swamp is the source of rivers rather than their recipient, as in a delta, and therefore is generally unaffected by most disturbances to natural hydrology and water flow. The Refuge's undisturbed peat beds store valuable information on environmental conditions over the past 5,000 years and are a significant source of information related to global changes.

Next Steps

A draft World Heritage nomination for Okefenokee National Wildlife Refuge may now be prepared, in consultation with the National Park Service's Office of International Affairs. The NPS will coordinate the review and evaluation of the draft nomination to ensure it meets the requirements of 36 CFR 73, and will cooperate with the U.S. Fish and Wildlife Service and other partners. Following NPS review of a complete draft nomination, the Department may submit it to the World Heritage Centre for technical review by September 30 of any year. The Centre will then provide comments by November 15 of that year. The Federal Interagency Panel for World Heritage will review a draft nomination following receipt of the Centre's comments and recommend to the Department whether the nomination should be formally submitted for consideration by the World Heritage Committee. Submittal to the World Heritage Centre by the Department through the Department of State can be made by February 1 of any year (prior to 2026, at which time a new procedure of the World Heritage Committee will take effect); the World Heritage Committee would then consider the nomination at its annual meeting in the summer of the following year, after an evaluation by an official Advisory Body to the Committee.

Authority: 54 U.S.C. 307101; 36 CFR part 73.

Shannon A. Estenoz,
Assistant Secretary for Fish and Wildlife and Parks.

[FR Doc. 2023-20719 Filed 9-22-23; 8:45 am]

BILLING CODE P